DEPARTMENT OF ENERGY

[OE Docket No. EA-211-C]

Application To Export Electric Energy; DTE Energy Trading, Inc.

AGENCY: Office of Electricity Delivery and Energy Reliability, DOE.

ACTION: Notice of application.

SUMMARY: DTE Energy Trading, Inc. (DTE Energy Trading) has applied to renew its authority to transmit electric energy from the United States to Canada pursuant to section 202(e) of the Federal Power Act (FPA).

DATES: Comments, protests, or motions to intervene must be submitted on or before April 13, 2012.

ADDRESSES: Comments, protests, or motions to intervene should be addressed to: Christopher Lawrence, Office of Electricity Delivery and Energy Reliability, Mail Code: OE-20, U.S. Department of Energy, 1000 Independence Avenue SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On June 24, 1999, DOE issued Order No. EA-211, which authorized DTE Energy Trading to transmit electric energy from the United States to Canada as a power marketer for a two-year term using existing international transmission facilities. DOE subsequently renewed that authority two additional times in Order No. EA-211-A on April 25, 2002 and in Order No. EA-211-B on April 18, 2007. The current authority will expire on April 25, 2012. On January 26, 2012, DTE Energy Trading filed an application with DOE for renewal of the export authority contained in Order No. EA-211-B for an additional five-year term.

The electric energy that DTE Energy Trading proposes to export to Canada would be surplus energy purchased from electric utilities, Federal power marketing agencies, and other entities within the United States. The existing international transmission facilities to be utilized by DTE Energy Trading have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (385.214). Five copies of such comments, protests, or motions to intervene should be sent to the address provided above on or before the date listed above.

Comments on the DTE Energy Trading application to export electric energy to Canada should be clearly marked with OE Docket No. 211-C. An additional copy is to be filed directly with Brian C. Drumm, DTE Energy Company, One Energy Plaza, Detroit, MI 48226 AND Marcia Hissong, DTE Energy Trading, Inc., 414 S. Main Street, Ann Arbor, MI 48104. A final decision will be made on this application after the environmental impacts have been evaluated pursuant to DOE's National Environmental Policy Act Implementing Procedures (10 CFR Part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC, on March 8, 2012.
Brian Mills,
Director, Permitting and Siting Office of Electricity Delivery and Energy Reliability.

[FR Doc. 2012-6142 Filed 3-13-12; 8:45 am]

BILLING CODE 6450-01-P